DEPARTMENT OF AGRICULTURE

Animal and Plant Health Inspection Service

[Docket No. APHIS-2014-0090]

Secretary's Advisory Committee on Animal Health; Notice of Solicitation for Membership

AGENCY: Animal and Plant Health Inspection Service, USDA.

ACTION: Notice of solicitation for membership.

SUMMARY: We are giving notice that the Secretary is soliciting nominations for membership for this Committee to serve for 2 year terms.

DATES: Consideration will be given to nominations received on or before January 20, 2015.

ADDRESSES: Completed nomination forms should be sent to the person listed under FOR FURTHER INFORMATION CONTACT.

FOR FURTHER INFORMATION CONTACT: Mrs. R.J. Cabrera, Designated Federal Officer, VS, APHIS, 4700 River Road Unit 34, Riverdale, MD 20737-1231; (301) 851-3478, email: rj.cabrera@aphis.usda.gov.

SUPPLEMENTARY INFORMATION: The Secretary's Advisory Committee on Animal Health (SACAH or the Committee) advises the Secretary of Agriculture on strategies, policies, and programs to prevent, control, or eradicate animal diseases. The Committee considers agricultural initiatives of national scope and significance and advises on matters of public health, conservation of national resources, stability of livestock economies, livestock disease management and traceability strategies, prioritizing animal health imperatives, and other related aspects of agriculture.

The Committee Chairperson and Vice Chairperson are elected by the Committee from among its members.

Terms will expire for the current members of the Committee in May 2015. We are soliciting nominations from interested organizations and individuals. An organization may nominate individuals from within or outside its membership. Nomination forms are available on the Internet at http://www.ocio.usda.gov/forms/doc/AD-755.pdf or may be obtained from the person listed under FOR FURTHER INFORMATION CONTACT. The Secretary will select members to obtain the broadest possible representation on the Committee, in accordance with the Federal Advisory Committee Act (5 U.S.C. App. 2) and U.S. Department of Agriculture (USDA) Regulation 1041-1. Equal opportunity practices, in line with the USDA policies, will be followed in all appointments to the Committee. To ensure that the recommendations of the Committee have taken into account the needs of the diverse groups served by the Department, membership should include, to the extent practicable, individuals with demonstrated ability to represent minorities, women, and persons with disabilities.

Done in Washington, DC, this 26th day of November 2014.
Kevin Shea,
Administrator, Animal and Plant Health Inspection Service.

[FR Doc. 2014-28440 Filed 12-2-14; 8:45 am]

BILLING CODE 3410-34-P